DEPARTMENT OF THE TREASURY

Bureau of Alcohol, Tobacco and Firearms

27 CFR Part 9

[Notice No. 963]

RIN 1512-AC72

Bennett Valley Viticultural Area (2002R-009T)

AGENCY: Bureau of Alcohol, Tobacco and Firearms (ATF), Treasury.

ACTION: Notice of proposed rulemaking.

SUMMARY: The Bureau of Alcohol, Tobacco and Firearms (ATF) has received a petition proposing the establishment of the Bennett Valley viticultural area in Sonoma County, California. The petitioned area consists of approximately 8,140 acres of valley and upland terrain, with 650 acres currently planted to grapes. The proposed area is within the established Sonoma Valley viticultural area, except for a 281-acre overlap into the Sonoma Coast viticultural area. A portion of the proposed area also overlaps the Sonoma Mountain viticultural area, which is itself totally within the larger Sonoma Valley viticultural area.

DATES: Written comments must be received by January 21, 2003.

ADDRESSES: Send written comments to: Chief, Regulations Division, Bureau of Alcohol, Tobacco and Firearms, P.O. Box 50221, Washington, DC 20091-0221 (Attn: Notice No. 963). Copies of the petition, the proposed regulations, the appropriate maps, and any written comments received will be available for public inspection by appointment at the ATF Reference Library, Room 6480, 650 Massachusetts Avenue, NW., Washington, DC 20226; telephone 202-927-7890. See the “Public Participation” section of this notice for alternative means of commenting.

FOR FURTHER INFORMATION CONTACT: N. A. Sutton, Specialist, Regulations Division (San Francisco, CA), Bureau of Alcohol, Tobacco and Firearms, 221 Main Street, 11th Floor, San Francisco, CA 94105-1906; telephone 415-271-1254.

SUPPLEMENTARY INFORMATION:

Background

The Federal Alcohol Administration Act (FAA Act) at 27 U.S.C. 205(e) requires that alcohol beverage labels provide the consumer with adequate information regarding a product's identity while prohibiting the use of deceptive information on such labels. The FAA Act also authorizes the Bureau of Alcohol, Tobacco and Firearms (ATF) to issue regulations to carry out the Act's provisions.

Regulations in 27 CFR part 4, Labeling and Advertising of Wine, allow the establishment of definitive viticultural areas. The regulations allow the name of an approved viticultural area to be used as an appellation of origin on wine labels and in wine advertisements. A list of approved viticultural areas is contained in 27 CFR Part 9, American Viticultural Areas.

Section 4.25a(e)(1), title 27 CFR, defines an American viticultural area as a delimited grape-growing region distinguishable by geographic features, the boundaries of which have been delineated in subpart C of part 9.

Section 4.25a(e)(2) outlines the procedure for proposing an American viticultural area. Any interested person may petition ATF to establish a grape-growing region as a viticultural area. The petition should include:

(a) Evidence that the name of the proposed viticultural area is locally and/or nationally known as referring to the area specified in the petition;

(b) Historical or current evidence that the boundaries of the viticultural area are as specified in the petition;

(c) Evidence relating to the geographical characteristics (climate, soil, elevation, physical features, etc.) which distinguish the viticultural features of the proposed area from surrounding areas;

(d) A description of the specific boundaries of the viticultural area, based on features which can be found on United States Geological Survey (USGS) maps of the largest applicable scale; and

(e) A copy (or copies) of the appropriate U.S.G.S. map(s) with the boundaries prominently marked.

Impact on Current Wine Labels

If this proposed viticultural area is approved, bottlers using brand names similar to the name of the viticultural area must review their existing products to insure that they are eligible to use the viticultural area's name as the appellation of origin. To be eligible, 85% of the grapes in the wine must be grown within the viticultural area. If a product is not eligible to use the viticultural area name as an appellation, the bottler must obtain approval of a label with a different brand name for that wine. (See 27 CFR 4.39(i).)

Bennett Valley Petition

ATF has received a petition proposing a new viticultural area to be called “Bennett Valley.” The proposed 8,140-acre viticultural area is located in Sonoma County, California, just southeast of the city of Santa Rosa and approximately 45 miles northeast of San Francisco. Sonoma County is entirely within the North Coast viticultural area. The petitioned area is almost entirely within the Sonoma Valley viticultural area, with a small 281-acre overlap into the Sonoma Coast viticultural area. It also partially overlaps the Sonoma Mountain viticultural area, which is entirely within the Sonoma Valley area. Currently, there are 650 acres of planted vineyards in the proposed area.

This proposed viticultural area is about 5.5 miles long, northwest to southeast, 3.15 miles across at its widest point, and resembles the shape of a downward-pointing bullet. The floor of Bennett Valley runs the petitioned area's length, and Bennett Valley Road meanders from its northwest to southeast boundaries. This proposed viticultural area, including the surrounding hills and mountains, comprises the Matanzas Creek watershed. This creek flows west into the Russian River drainage system and eventually to the Pacific Ocean. The petition states that differences in topography, soils, and climate distinguish the proposed Bennett Valley viticultural area from the surrounding areas.

Evidence That the Name of the Area Is Locally or Nationally Known

According to the petitioner, the area is locally known as Bennett Valley. The valley is named after James N. Bennett, an 1849 immigrant settler who arrived by wagon train. His arrival coincided with the 1849 Gold Rush that brought settlers to California, helping Bennett Valley grow as an agricultural region known for grapes, apples, hay, wheat, oats, barley, and livestock. The Bennett Valley Grange Hall was built in 1873, and it still stands on Grange Road within the proposed area as noted on the USGS Santa Rosa, CA, quadrangle map. The petition also includes an excerpt from the 1877 “Historical Atlas Map of Sonoma County,” which states that if Bennett Valley “has any specialty, it is for fruit and grape culture.”

The petition also offers documentation for the current usage of the proposed area's name. This includes references from a book by Don Edwards, “Making the Most of Sonoma County, A California Guide,” which states, “Bennett Valley—squeezed between Taylor Mountain and the Sonoma Mountains on the west, Bennett Peak (Yulupa to the Indians) and Bennett Ridge to the east—has been ranching and farming country since the days when Missourian William Bennett settled here.” The Bennett Valley Homeowner's Association's web site includes a boundary description similar to that of the proposed viticultural area. The Sonoma County telephone book has 24 business listings using the Bennett Valley name, including the Bennett Valley Union School District. The Bennett Valley School is identified on the USGS Santa Rosa, CA, quadrangle map just inside the proposed area's northwest boundary line. The petition also includes a reference to the Sonoma County government's Bennett Valley Area Plan. Only the Plan's northern-most portion, the petition notes, lies outside of the proposed viticultural area's boundaries.

Historical or Current Evidence That the Boundaries of the Viticultural Area Are as Specified in the Petition

The petition states that the proposed area's boundaries are based on historical and current viticulture, geographical features, and a unique microclimate. The petition lists 24 grape growers who are historically linked with Bennett Valley agriculture. In 1862, early settler Isaac DeTurk planted a 30-acre vineyard at the base of Bennett Mountain. By 1878, the petition adds, he was producing 100,000 gallons of wine from his own and purchased grapes at his winery located within the proposed area on Grange and Bennett Valley roads.

Modern accounts referenced in the petition indicate that, around the turn of the century, phylloxera disease killed some of Bennett Valley's estimated 2,000 vineyard-acres, while Prohibition ended the balance of the Valley's wine grape industry. A resurgence of wine grape growing in Bennett Valley started in 1975, the petition notes, when the Matanzas Creek Winery planted 20 acres of grapes. The proposed area now has approximately 650 vineyard-acres. Twelve of the thirteen petition signers are vineyard owners within the proposed area.

Evidence Relating to the Geographical Features Which Distinguish the Proposed Area From Surrounding Areas

As described in the petition, the proposed boundaries of the Bennett Valley viticultural area are based on a combination of terrain and soil similarities, a climate with a strong coastal influence in a sheltered, inland location, and the common denominator of being within the Matanzas Creek watershed.

Physical Features

Bennett Valley is surrounded on three sides by the Sonoma Mountain Range and, on the north side, by the city of Santa Rosa. The mountainous boundaries, generally defined by ridgelines, indicate the outer limits of the Matanzas Creek watershed. Taylor and Bennett Mountains provide anchors for the proposed area's western and eastern boundary, respectively, while the 1,600-foot elevation line on Sonoma Mountain defines the southern boundary. Elevations within the proposed area range from 250 to 1,850 feet, with most vineyards between the 500 and 600-foot level.

The proposed area's northwestern boundary starts at Taylor Mountain's peak and continues straight northeast, coinciding with a portion of the Sonoma Valley viticultural area boundary line. The lower northern elevations open to the Santa Rosa Valley and city of Santa Rosa, where, at the northernmost point, the boundary line turns southeast at a 65-degree angle. The northeastern and eastern boundaries, primarily a series of straight lines connecting elevation points, follow the ridgelines through the peak of Bennett Mountain that outline the eastern side of the Matanzas Creek watershed.

The southern boundary follows the 1600-foot elevation line along Sonoma Mountain's north side and then a westerly straight line to a 900-foot elevation point. The southwestern boundary uses intersections and markers, within the Matanzas Creek watershed, to close the boundary line at Taylor Mountain. Crane Canyon, on the proposed area's southwestern side, provides an opening in the mountains for the cooling coastal fogs and breezes from the Pacific coast, which, according to the petitioners, moderate the Bennett Valley's climate.

Soils

The proposed Bennett Valley viticultural area's soils vary from the surrounding areas, the petition notes, due to the different composition percentages of its predominant Goulding-Toomes-Guenoc Association. The petition adds that there are differences in the distribution of Spreckels, Laniger, Haire, and Red Hill clay loam soils between the proposed area and nearby portions of the Sonoma Valley viticultural area. It also states that the soils in the Sonoma Mountain viticultural area, other than the overlapping portion, vary from those within the proposed Bennett Valley area.

The foothills soils, comprised primarily of the Goulding-Toomes-Guenoc Association, are of a volcanic origin that include lava flows, tuff beds and sandstone, gravel, and some conglomerate, according to the petitioner. The lower slopes and valley floor soils have more variety, including some of alluvial origin. The distribution of Spreckels loam, a well drained loam with clay subsoil, the petition states, is about 24 percent in the proposed Bennett Valley area, 27 percent in the Sonoma Mountain viticultural area, and almost 42 percent in the common area that overlaps the two areas.

Climate

The proposed Bennett Valley viticultural area has a unique microclimate, resulting from its sheltered inland location and access to coastal cooling elements, according to the petition. It notes that the broad and tall Sonoma Mountain diverts the foggy, south-to-north coastal breezes of the Petaluma gap to the north and into the Crane Canyon gap. This gap, between Sonoma Mountain and Taylor Mountain, funnels the coastal fog and winds into the Bennett Valley. Rainfall amounts in the Bennett Valley area are 17 to 25 percent higher than in the areas to the immediate north and east, according to the petition, which also quotes Valley residents who state that rainfall amounts vary with elevation and proximity to the mountains and their wind patterns.

Overlaps With the Sonoma Mountain and Sonoma Coast Viticultural Areas

The proposed Bennett Valley area is almost entirely within the Sonoma Valley viticultural area. The Sonoma Mountain viticultural area, which is totally within the larger Sonoma Valley viticultural area, overlaps 13.1 percent of the proposed Bennett Valley area. A small 3.4 percent of the proposed area overlaps into the Sonoma Coast viticultural area. The Sonoma Coast and the interior Sonoma Valley viticultural areas, both within the North Coast viticultural area, share a common boundary line along Sonoma Valley's western border. This common boundary line is the site of the petitioned boundary's small overlap into the Sonoma Coast area.

The following table summarizes the proposed 8,140-acre Bennett Valley viticultural area's overlaps with other, established viticultural areas:

Viticultural area | Acres within the proposed Bennett Valley area | Percent of the proposed Bennett Valley area in overlap
Sonoma Valley only | 6,796 | 83.5
Sonoma Mountain (within Sonoma Valley area) | 1,063 | 13.1
Total within Sonoma Valley | 7,859 | 96.6
Sonoma Coast | 281 | 3.4
Grand total | 8,140 | 100.0

The petitioner believes these overlapping acreages provide more of a transition than a definitive contrast between the proposed and established viticultural areas.

Sonoma Valley Viticultural Area (27 CFR 9.29)

The proposed Bennett Valley viticultural area is 96.6 percent within the Sonoma Valley viticultural area. The petitioned Bennett Valley area occupies 7,859 acres, or approximately 7 percent, of the larger Sonoma Valley viticultural area's acreage. According to the petition, the Sonoma Valley viticultural area petition included the Bennett Valley due to its similar soil and climate. The Sonoma Mountain viticultural area is totally within, and located in the western portion of, the Sonoma Valley viticultural area.

Sonoma Mountain Viticultural Area (27 CFR 9.102)

The proposed Bennett Valley viticultural area overlaps 1,063 acres (13.1 percent of its territory) of the established Sonoma Mountain viticultural area, which is itself totally within the Sonoma Valley viticultural area. The overlap is in the southeast corner of the Bennett Valley area and the northwestern portion of the Sonoma Mountain area. The overlap is seen on the Glen Ellen and Kenwood USGS maps in Sections 11 through 14, T6N, R7W. The overlap is mainly that portion of the proposed Bennett Valley viticultural area north of the 1,600-foot elevation line on Sonoma Mountain in Sections 13, 14, and 23, and the land east of the common line between Sections 15 and 14, as shown on the Glen Ellen map. The northern limit of the overlap is the 800-foot elevation line from its southern most intersection with the common line between Sections 10 and 11 to its intersection with Bennett Valley Road, as shown on the Kenwood map.

According to the petition, the overlap area between the proposed Bennett Valley and the Sonoma Mountain viticultural areas contains common geographic features, such as the Matanzas Creek watershed, similar vineyard elevations, and the “thermal belt” phenomenon that drains cold air and fog from the upper mountain slopes to the lower elevations, which moderates temperatures at the lower levels. The thermal belt phenomenon is seen in this overlap due to its proximity to the Crane Canyon wind gap, which delivers the Pacific's cooling marine influence to the proposed area.

The petition also notes strong soil similarities in this overlapping area. For example, Goulding clay loam covers 30.2 percent of the proposed Bennett Valley area, 33.4 percent of this overlapping area, and from 7.4 to 49.8 percent of other sections of Sonoma County viticultural areas. Goulding cobbly clay loam covers 18.5 percent of the Bennett Valley area, 19.0 percent of the Sonoma Mountain overlap, and covers 10.8 to 43.1 percent of other areas.

The petition also quotes several Sonoma Mountain area grape growers who state that diverse growing conditions exist on different sides, and at various elevations, on Sonoma Mountain. Specifically, they note, the overlapping area benefits from the coastal influence and wind, which contrasts to the protected, warmer, eastern side of the mountain.

Sonoma Coast Viticultural Area (27 CFR 9.116)

The proposed Bennett Valley viticultural area overlaps approximately 281 acres (3.4 percent of its territory) of the established Sonoma Coast viticultural area. This overlapping area is in two portions on the petitioned area's west side. The first is located north of Crane Canyon Road and can be found in Sections 9 and 8, T6N, R7W, on the Cotati and Santa Rosa USGS maps. The second is located in Sections 15 and 16, T6N, R7W, on the Cotati map. This section of the Sonoma Valley and Sonoma Coast viticultural areas common boundary line spans a remote section of the Sonoma Mountains, where, according to the petitioners, determining the exact limits of the Matanzas Creek watershed might have challenged previous petitioners in drawing the two areas' boundary lines.

The petitioners originally intended to follow the Sonoma Valley area's western border and not overlap into the Sonoma Coast area. However, in the overlap north of Crane Canyon Road, the petitioners discovered that the former George N. Whitaker vineyard, a historically significant Bennett Valley vineyard, straddled the common boundary line between the Sonoma Coast and Sonoma Valley viticultural areas. The vineyard, and the immediately surrounding land, is similar to the proposed Bennett Valley viticultural area due to its drainage into the Matanzas Creek watershed, its direct receipt of the cooling marine influence from the Crane Canyon gap, and terrain and soils that are consistent with petitioned area. To avoid again dividing this vineyard between two viticultural areas, the petitioners extended their boundary line about a quarter-mile west into the Sonoma Coast viticultural area, causing the small, 281-acre overlap.

The petitioner claims the terrain, soils, and microclimate of this Sonoma Coast overlap are consistent with the proposed Bennett Valley viticultural area. The area is totally within the Matanzas Creek watershed and on the Sonoma Valley side of the dividing ridge. The elevations, from 680 to 960 feet, are consistent with the surrounding petitioned areas. The Goulding soils predominate the overlapping area and are similar to the rest of the proposed Bennett Valley area. The Crane Canyon gap gives this overlap area the same cooling marine influence as the rest of the proposed area.

Proposed Boundaries

The proposed viticultural area is in Sonoma County, California. The four approved USGS maps for determining the boundary of the proposed Bennett Valley viticultural area are the Santa Rosa Quadrangle, California—Sonoma Co., 7.5 Minute Series, edition of 1994; Kenwood Quadrangle, California, 7.5 Minute Series, edition of 1954, photorevised 1980; Glen Ellen Quadrangle, California—Sonoma Co, 7.5 Minute Series, edition of 1954, photorevised 1980; and Cotati Quadrangle, California—Sonoma Co, 7.5 Minute Series, edition of 1954, photorevised 1980.

The proposed Bennett Valley area is of an irregular five-sided shape, resembling a downward-pointing bullet, with Taylor Mountain, the city of Santa Rosa, and Bennett Mountain to the north, while the large Sonoma Mountain anchors the south side. The proposed viticultural area is totally within the North Coast viticultural area, is almost entirely within the Sonoma Valley viticultural area, with a small overlap into the Sonoma Coast viticultural area. The proposed area also overlaps a portion of the Sonoma Mountain viticultural area, which is itself totally within the Sonoma Valley area.

Public Participation

Comments Sought

ATF requests comments from all interested persons. Comments received on or before the closing date will be carefully considered. Comments received after that date will be given the same consideration if it is practical to do so. However, assurance of consideration can only be given to comments received on or before the closing date.

ATF is especially interested in comments about the small overlap into the Sonoma Coast viticultural area. This overlap departs from the common course of two established viticultural area boundary lines to avoid dividing an established vineyard that appears to meet the criteria of the Bennett Valley viticultural area. ATF is also interested in comments about the proposed area's overlap with the Sonoma Mountain viticultural area. Refer to the “Overlapping Areas” section of this document for more detailed information.

ATF will not recognize any submitted material as confidential and comments may be disclosed to the public. Any material that a commenter considers confidential or inappropriate for disclosure to the public should not be included in the comments. The name of the person submitting a comment is not exempt from disclosure.

Submitting Comments

By U.S. Mail: Written comments may be mailed to ATF at the address listed in the ADDRESSES section.

By Fax: Comments may be submitted by facsimile transmission to 202-927-8602, provided the comments: (1) Are legible; (2) are 8½″ x 11″ in size, (3) contain a written signature, and (4) are five pages or less in length. This limitation is necessary to assure reasonable access to the equipment. Comments sent by fax in excess of five pages will not be accepted. Receipt of fax transmittals will not be acknowledged. Facsimile transmitted comments will be treated as originals.

By E-Mail: Comments may be submitted by e-mail to nprm@atfhq.treas.gov. E-mail comments must: contain your name, mailing address and e-mail address, and reference this notice number. We will not acknowledge the receipt of e-mail. We will treat comments submitted by e-mail as originals.

Comments may also be submitted using the comment form provided with the online copy of this proposed rule on the ATF Internet web site at http://www.atf.treas.gov.

By Public Hearing: Any person who desires an opportunity to comment orally at a public hearing on the proposed regulation should submit his or her request in writing to the Director within the 60-day comment period. The Director, however, reserves the right to determine, in light of all circumstances, whether a public hearing will be held.

Reviewing Comments

You may view copies of the full comments received in response to this notice of proposed rulemaking by appointment at the ATF Reference Library, Room 6480, 650 Massachusetts Avenue, NW., Washington, DC 20226; telephone 202-927-7890. You may request copies of the full comments (at 20 cents per page) by writing to the ATF Reference Librarian at the above address.

For the convenience of the public, ATF will post comments received in response to this notice on the ATF web site. All comments posted on our web site will show the name of the commenter, but will have street addresses, telephone numbers, and e-mail addresses removed. We may also omit voluminous attachments or material that we do not consider suitable for posting. In all cases, the full comment will be available in the ATF library as noted above. To access online copies of the comments on this proposed rulemaking, visit http://www.atf.treas.gov/, and select “Regulations,” then “Notices of proposed rulemaking (alcohol),” and then click on the “View Comments” link for this notice.

Paperwork Reduction Act

The provisions of the Paperwork Reduction Act of 1995, 44 U.S.C. chapter 35, and its implementing regulations, 5 CFR part 1320, do not apply to this notice because no requirement to collect information is proposed.

Regulatory Flexibility Act

ATF certifies that this proposed regulation will not have a significant impact on a substantial number of small entities. The establishment of a viticultural area is neither an endorsement nor approval by ATF of the quality of wine produced in the area, but rather an identification of an area that is distinct from surrounding areas. ATF believes the establishment of viticultural areas merely allows wineries to more accurately describe the origin of their wines to consumers, and helps consumers identify the wines they purchase. Thus, any benefit derived from the use of a viticultural area name is the result of a proprietor's own efforts and consumer acceptance of wines from that area.

No new requirements are proposed. Accordingly, a regulatory flexibility analysis is not required.

Executive Order 12866

ATF has determined that this proposed regulation is not a significant regulatory action as defined by Executive Order 12866. Accordingly, this proposal is not subject to the analysis required by this Executive Order.

Drafting Information

The principal author of this document is N. A. Sutton, Regulations Division (San Francisco), Bureau of Alcohol, Tobacco, and Firearms.

List of Subjects in 27 CFR Part 9

Wine.

Authority and Issuance

Title 27, Code of Federal Regulations, Part 9, American Viticultural Areas, is proposed to be amended as follows:

PART 9—AMERICAN VITICULTURAL AREAS

Paragraph 1. The authority citation for part 9 continues to read as follows:

Authority: 27 U.S.C. 205

Subpart C—Approved American Viticultural Areas

Par. 2. Subpart C is amended by adding Section 9.__ to read as follows:

§ 9.__ Bennett Valley

(a) Name. The name of the viticultural area described in this section is “Bennett Valley”.

(b) Approved maps. The appropriate maps for determining the boundary of the Bennett Valley viticultural area are four 1:24,000 Scale U.S.G.S. topography maps. They are titled:

(1) Santa Rosa Quadrangle, CA—Sonoma Co. 1994

(2) Kenwood Quadrangle, CA 1954, photorevised 1980

(3) Glen Ellen Quadrangle, CA—Sonoma Co. 1954, photorevised 1980

(4) Cotati Quadrangle, CA—Sonoma Co. 1954, photorevised 1980

(c) Boundary. The Bennett Valley viticultural area is entirely within Sonoma County, California, and is located northwest of the peak of Sonoma Mountain and southeast of the city of Santa Rosa. The point of beginning is the peak of Taylor Mountain (BM 1401), Section 6, T6N, R7W (Santa Rosa Quadrangle).

(1) Then proceed straight northeast to the intersection of the common line between Sections 31 and 32 and the 560-foot elevation line, T7N, R7W, and continue straight northeast at the same angle, crossing the Bennett Valley Golf Course and Matanzas Creek, to a point on the 500-foot elevation line approximately 400 feet north of the southern boundary of Section 20, T7N, R7W (Santa Rosa Quadrangle);

(2) From that point, proceed straight southeast to the center peak of the three unnamed peaks above the 1,100-foot elevation line, located approximately 1,600 feet southwest of Hunter Spring, in Section 28, T7N, R7W (Santa Rosa Quadrangle);

(3) Then proceed straight east-southeast to a 1,527-foot peak in the southeast corner of Section 28, T7N, R7W (Santa Rosa Quadrangle);

(4) Then proceed straight southeast to Bennett Mountain's 1,887-foot peak, Section 34, T7N, R7W (Kenwood Quadrangle);

(5) Then proceed straight southeast to the 1,309-foot peak located northwest of a water tank and approximately 400 feet north of the southern boundary of Section 35, T7N, R7W (Kenwood Quadrangle);

(6) Then proceed straight south-southeast to the 978-foot peak in the northeast quadrant of Section 11, T6N, R7W, and continue straight south-southeast approximately 600 feet to the “T” intersection of two unimproved roads located on the common boundary line between Sections 11 and 12, T6N, R7W (Kenwood Quadrangle);

(7) Then proceed south along the north-south unimproved road to its intersection with Sonoma Mountain Road, Section 13, T6N, R7W, and continue straight south to the 1,600-foot elevation line, Section 13, T6N, R7W (Glen Ellen Quadrangle);

(8) Then proceed west along the meandering 1,600-foot elevation line to the point where it crosses the common line between Sections 22 and 23, T6N, R7W (Glen Ellen Quadrangle);

(9) Then proceed straight west-northwest to the point where the 900-foot elevation line crosses the common line between Sections 15 and 16, T6N, R7W, approximately 500 feet north of the southwest corner of Section 15 (Cotati Quadrangle);

(10) Then proceed straight northwest to intersection of Grange Road (known as Crane Canyon Road to the west) and the southern boundary of Section 9, and continue straight west along that section boundary to the southwest corner of Section 9, T6N, R7W (Cotati Quadrangle);

(11) Then proceed straight north-northwest to the 961-foot peak on the east side of Section 8, T6N, R7W, (Santa Rosa Quadrangle) and

(12) From that peak, continue straight northwest to the peak of Taylor Mountain, returning to the point of beginning.

Dated: November 8, 2002.
Bradley A. Buckles,
Director.

[FR Doc. 02-29590 Filed 11-21-02; 8:45 am]

BILLING CODE 4810-31-P